DEPARTMENT OF STATE

[Public Notice 6312]

30-Day Notice of Proposed Information Collection: DS-157, Supplemental Nonimmigrant Visa Form, OMB Control Number 1405-0134

ACTION: Notice of request for public comments.

SUMMARY: The Department of State has submitted the following information collection request to the Office of Management and Budget (OMB) for approval in accordance with the Paperwork Reduction Act of 1995.

• Title of Information Collection: Supplemental Nonimmigrant Visa Form

• OMB Control Number: 1405-0134

• Type of Request: Extension of a Currently Approved Collection

• Originating Office: Bureau of Consular Affairs, Department of State (CA/VO)

• Form Number: DS-157

• Respondents: Nonimmigrant visa applicants legally required to provide additional security and background information.

• Estimated Number of Respondents: 4,000,000

• Estimated Number of Responses: 4,000,000

• Average Hours per Response: 1 hour

• Total Estimated Burden: 4,000,000

• Frequency: Once per respondent

• Obligation to Respond: Required to Obtain or Retain a Benefit

DATES: Submit comments to the Office of Management and Budget (OMB) for up to 30 days from August 11, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from David Serna of the Office of Visa Services, U.S. Department of State, 2401 E. Street, NW., L-603, Washington, DC 20522, who may be reached at (202) 663-2874.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Applicants will use this form to apply for a nonimmigrant visa to enter the United States. U.S. embassies and consulates will use the data provided in conjunction with the DS-157 to help determine whether aliens are eligible to receive nonimmigrant visas.

Methodology: Applicants may fill out the DS-157 online or print the page and fill it out by hand, and submit it in person at the time of interview.

Dated: July 31, 2008.
Stephen A. Edson,
Deputy Assistant Secretary, Bureau of Consular Affairs, Department of State.

[FR Doc. E8-18475 Filed 8-8-08; 8:45 am]

BILLING CODE 4710-06-P